DEPARTMENT OF LABOR

Employment and Training Administration

[TA-W-70,228]

Johnson Controls, Inc., Automotive Experience Division, Including Workers Whose Unemployment Insurance (UI) Wages Are Paid Through Hoover Universal, Greenfield, OH; Amended Certification Regarding Eligibility To Apply for Worker Adjustment Assistance

In accordance with Section 223 of the Trade Act of 1974, as amended (“Act”), 19 U.S.C. 2273, the Department of Labor issued a Certification of Eligibility to Apply for Worker Adjustment Assistance on October 6, 2009, applicable to workers of Johnson Controls, Inc., Automotive Experience Division, Greenfield, Ohio. The notice was published in the Federal Register on December 11, 2009 (74 FR 65798).

At the request of the state, the Department reviewed the certification for workers of the subject firm. The workers were engaged in the production of foam inserts for the automotive seating industry.

New information shows that Johnson Controls purchased Hoover Universal in 1985 and that some workers separated from employment at the subject firm had their wages reported under a separate unemployment insurance (UI) tax account, under the name Hoover Universal.

Accordingly, the Department is amending this certification to property reflect this matter.

The intent of the Department's certification is to include all workers of the subject firm who were adversely affected by a shift in production of foam inserts for the automotive seating industry to Canada.

The amended notice applicable to TA-W-70,228 is hereby issued as follows:

All workers of Johnston Controls, Inc., Automotive Experience Division, including workers whose unemployment insurance (UI) wages are paid through Hoover Universal, Greenfield, Ohio, who became totally or partially separated from employment on or after May 19, 2008, through October 6, 2011, and all workers in the group threatened with total or partial separation from employment on date of certification through two years from the date of certification, are eligible to apply for adjustment assistance under Chapter 2 of Title II of the Trade Act of 1974, as amended.

Signed at Washington, DC, this 23rd day of April, 2010.
Del Min Amy Chen,
Certifying Officer, Division of Trade Adjustment Assistance.

[FR Doc. 2010-10521 Filed 5-4-10; 8:45 am]

BILLING CODE 4510-FN-P